DEPARTMENT OF COMMERCE

National Oceanic and Atmospheric Administration

[RTID 0648-XC333]

New England Fishery Management Council; Public Meeting

AGENCY: National Marine Fisheries Service (NMFS), National Oceanic and Atmospheric Administration (NOAA), Commerce.

ACTION: Notice of a public meeting.

SUMMARY: The New England Fishery Management Council (Council, NEFMC) will hold a four-day hybrid meeting with both in-person and remote participation to consider actions affecting New England fisheries in the exclusive economic zone (EEZ). The Council continues to follow all public safety measures related to COVID-19 and intends to do so for this meeting.

DATES: The meeting will be held on Monday, Tuesday, Wednesday, and Thursday, September 26, 27, 28, and 29, 2022, beginning at 1 p.m. on Monday, 9 a.m. on Tuesday, 8:30 a.m. on Wednesday, and 9 a.m. on Thursday.

ADDRESSES:

Meeting address: The meeting will be held at the Beauport Hotel, 55 Commercial Street, Gloucester, MA 01930; telephone (978) 282-0008; online at https://www.beauporthotel.com. Join the webinar at https://attendee.gotowebinar.com/register/7374448002191175695.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Monday, September 26, 2022

After brief announcements, the Greater Atlantic Regional Fisheries Office (GARFO) Regional Administrator will swear in new and reappointed Council members. Then, the Council will hold its annual election of officers before receiving reports on recent activities from its Chair and Executive Director, the GARFO Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, the Northwest Atlantic Fisheries Organization (NAFO), the NMFS Highly Migratory Species Advisory Panel, and the South Atlantic Council's Dolphin/Wahoo Committee. Next, the Council will receive a report on the Northeast Trawl Advisory Panel's (NTAP) recent meetings. As the last item of business for the day, the Council will engage in a discussion on East Coast Climate Change Scenario Planning. The Council will examine the four scenarios developed during a June workshop and two August deepening webinars before discussing next steps for developing Council recommendations to inform the 2023 summit for this initiative.

Tuesday, September 27, 2022

The Council will begin the second day of its meeting with a NOAA presentation on the revised management plan for the Stellwagen Bank National Marine Sanctuary. Next, the Council will receive information on the Northeast Canyons and Seamounts Marine National Monument entailing a GARFO update and consult with the Council on: (1) the NOAA Fisheries process for drafting regulatory actions to formally close fishing within the boundaries of the Northeast Canyons and Seamounts Marine National Monument; and (2) the updated timeline for U.S. Fish and Wildlife Service/NMFS public scoping sessions for the draft Monument Management Plan. The Council then will address the proposed Hudson Canyon National Marine Sanctuary and discuss: (1) the NOAA scoping process to consider designating a national marine sanctuary in the Hudson Canyon area; (2) a NOAA letter seeking input on Council involvement in preparing draft regulations for the proposed sanctuary; and (3) next steps for developing a response. Following the conclusion of these items, the Council will receive a presentation on the Scallop Survey Working Group's final report.

After the lunch break, the Council will continue with the Scallop Committee report and cover two items. First, the Council will receive an update on Framework Adjustment 36 to the Atlantic Sea Scallop Fishery Management Plan (FMP) entailing: (1) a preliminary overview of 2022 surveys; and (2) a progress report on work being done to develop specifications for the 2023 fishing year, default specifications for the 2024 fishing year, and other measures. The Council then will devote the remainder of the day to discussing issues related to scallop leasing. The Council first will receive a summary of all oral and written comments collected during the scoping process for this issue and then decide whether to take the next step and initiate an amendment to the Scallop FMP to further consider leasing alternatives for the limited access component of the fishery. At the conclusion of this discussion, the Council will adjourn for the day.

Wednesday, September 28, 2022

The Council will lead off the third day of its meeting in closed session to discuss internal administrative matters regarding policies for preventing harassment of Council staff and all other Council process participants. Once the Council enters into the open session of the meeting, it first will receive a presentation from the Northeast Fisheries Science Center on the peer reviewed results from the Atlantic Herring and Southern New England/Mid-Atlantic Winter Flounder Management Track Stock Assessments. This will be followed by another NEFSC presentation on the peer reviewed results for the American Plaice Research Track Assessment. Next, the Council will receive a backgrounder by staff on the Transboundary Management Guidance Committee (TMGC) and the process used for managing shared U.S./Canada resources on Georges Bank. The U.S. Co-Chair of the Transboundary Resources Assessment Committee (TRAC) will provide a presentation on 2022 assessments results and related updates for Eastern Georges Bank cod, Eastern Georges Bank haddock, and Georges Bank yellowtail flounder. The Scientific and Statistical Committee (SSC) Chair will provide: (1) the SSC's recommendations on the overfishing limits (OFLs) and acceptable biological catches (ABCs) for Georges Bank yellowtail flounder for fishing years 2023 and 2024; (2) input on Gulf of Maine cod rebuilding approaches; (3) recommendations on Georges Bank cod ABCs for 2023 and 2024; and (4) OFLs and ABCs for Southern New England/Mid-Atlantic winter flounder for 2023, 2024, and 2025. The Council then will review and approve the TMGC's recommendations for 2023-24 total allowable catches (TACs) for shared U.S./Canada resources on Georges Bank.

Following the lunch break, the Council will take up the Groundfish Committee report, which will cover progress on Framework Adjustment 65 to the Groundfish FMP. The framework includes: (1) 2023-24 TACs for U.S./Canada shared resources on Georges Bank; (2) 2023-24 specifications for Georges Bank cod and Georges Bank yellowtail flounder; (3) 2023-25 specifications for 14 additional groundfish stocks; (4) revised rebuilding plans for Gulf of Maine cod and Southern New England/Mid-Atlantic winter flounder; (5) additional measures to promote stock rebuilding; and (6) groundfish ABC control rule revisions. The Council then will hear the Atlantic Herring Committee report. First, the Council will receive the SSC's recommendations for OFLs and ABCs for Atlantic herring for fishing years 2023, 2024, and 2025 before taking final action on 2023-25 specifications for the fishery. Second, the Council will discuss Framework Adjustment 7 to the Atlantic Herring FMP, which was initiated to develop measures to protect adult spawning herring on Georges Bank. The Council may consider a change in its herring priorities to discontinue work on this action. Following herring, the Council will take up the Habitat Committee report, which will cover four items: (1) a discussion and possible initiation of a framework adjustment to facilitate offshore Atlantic salmon aquaculture; (2) a GAFRO update on the three-year review of the Dedicated Habitat Research Areas (DHRAs) contained in the Council's Omnibus Essential Fish Habitat Amendment 2; (3) a discussion of the utility of an exempted fishing permit study for management of fishing gear impacts in the Great South Channel Habitat Management Area; and (4) offshore energy and habitat-related work updates, including a Bureau of Ocean Energy Management Gulf of Maine wind update, as well as progress reports on other work. The Council then will adjourn for the day.

Thursday, September 29, 2022

The Council will lead off the fourth day of its meeting with a presentation from the Northeast Fisheries Science Center's Fishery Monitoring and Research Division. The report will cover: (1) the status of ongoing responsibilities within the division; (2) updates on at-sea monitoring and observer program activities, funding status, and coverage rates; and (3) a cooperative research update. The Council then will cover two monkfish items. First, it will receive a presentation on the final Monkfish Fishery Performance Report. This will be followed by a progress report on Framework Adjustment 13 to the Monkfish FMP, which contains 2023-25 fishery specifications and other measures. The Council then will take up the Ecosystem-Based Fishery Management (EBFM) Committee report, which will include updates on: (1) planning for EBFM informational outreach workshops; (2) contractor work to develop and conduct a prototype management strategy evaluation (MSE) for EBFM and the Georges Bank example Fishery Ecosystem Plan (eFEP); and (3) discussions with NOAA Fisheries on National Standard 1's application to the Council's eFEP catch management framework. The Council then will receive the 2022 Northeast Skate Complex Annual Monitoring Report covering the 2021 skate fishing year, as well as an overview of the Skate Plan Development Team's work to improve methods for catch accounting, specification setting, and in-season quota monitoring.

Following the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. Next, NMFS will provide a presentation on proposed regulatory changes to reduce vessel strikes to North Atlantic right whales, and the Council will have an opportunity to provide comments. The Northeast Fisheries Science Center will provide a presentation on the “Draft Ropeless Fishing Roadmap: A Strategy to Develop On-Demand Fishing,” which is intended to help reduce the risk of right whale entanglements with fishing gear. The Council will have an opportunity to provide feedback. The next presentation will be on NOAA's National Saltwater Recreational Fisheries Policy. The Council will consider whether to submit comments on this updated policy. The Council then will hold its initial discussion on 2023 Council Priorities before closing out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: August 31, 2022.
Rey Israel Marquez,
Acting Deputy Director, Office of Sustainable Fisheries, National Marine Fisheries Service.

[FR Doc. 2022-19235 Filed 9-6-22; 8:45 am]

BILLING CODE 3510-22-P